DEPARTMENT OF ENERGY

Federal Energy Regulatory Commission

[Project No. 13124-003]

Copper Valley Electric Association, Inc.; Notice of Extension of Time for Filing of Comments, Final Terms and Conditions, Recommendations, and Prescriptions

As stated in a letter dated January 27, 2012, in this proceeding by the Director, Division of Hydropower Licensing, the date for filing of comments, final terms and conditions, recommendations, and prescriptions, and pursuant to the Notice of Application and Applicant-Prepared EA Accepted for Filing, Soliciting Motions to Intervene and Protests, and Soliciting Comments, and Final Terms and Conditions, Recommendations, and Prescriptions issued on December 9, 2011, for the Allison Creek Hydroelectric Project No. 13124-003 has been extended to April 6, 2012.

Dated: February 24, 2012.
Nathaniel J. Davis, Sr.,
Deputy Secretary.

[FR Doc. 2012-4951 Filed 2-29-12; 8:45 am]

BILLING CODE 6717-01-P